DEPARTMENT OF AGRICULTURE

Natural Resources Conservation Service

[Docket No. NRCS-2014-0002]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Access Road (Code 560), Agrichemical Handling Facility (Code 309), Grade Stabilization Structure (Code 410), Precision Land Forming (Code 462), Short Term Storage of Animal Waste and Byproducts (Code 318), Terraces (Code 600), Trails and Walkways (Code 575), Watering Facility (Code 614) and Water Well (Code 642).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective April 21, 2014.

Comment Date: Submit comments on or before May 21, 2014. Final versions of these new or revised conservation practice standards will be adopted after the close of the 30-day period and after consideration of all comments.

ADDRESSES: Comments should be submitted, identified by Docket Number NRCS-2014-0002, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Wayne Bogovich, National Agricultural Engineer, Conservation Engineering Division, Department of Agriculture, Natural Resources Conservation Service, 1400 Independence Avenue SW., Room 6136 South Building, Washington, DC 20250.

Electronic copies of the proposed revised standards are available through http://www.regulations.gov by accessing Docket No. NRCS-2014-0002. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143026849. To aid in this comparison, following are highlights of some of the proposed revisions to each standard:

Access Road (Code 560)—The agency revised the definition. The chart for the location of cross slope drainage features was modified to include a variety of soils rather than a single soil.

Agrichemical Handling Facility (Code 309)—The agency added new criteria under which lowering the water table would be allowable, expanded sizing criteria of the agrichemical handling pad, clarified language under the storage capacity criteria, added new criteria for an equipment wash bay, and updated and added clarification to the criteria for concrete exposed to agrichemicals.

Grade Stabilization Structure (Code 410)—The agency refined the definition, modified criteria, and updated terminology related to hazard classification.

Precision Land Forming (Code 462)—The agency updated the operation and maintenance section and references.

Short Term Storage of Animal Waste and Byproducts (Code 318)—The agency created this new conservation practice standard.

Terraces (Code 600)—The agency clearly defined pressure flow and gravity flow, added tractive stress references, updated the operation and maintenance section, and added references.

Trails and Walkways (Code 575)—The agency incorporated Trails and Walkways (Code 568) into Animal Trails and Walkways (Code 575) under the name Trails and Walkways (Code 575). These standards were combined into one because many of the criteria are very similar. The practice name, definition, purpose, and conditions where practice applies were modified accordingly.

Watering Facility (Code 614)—The agency revised the definition of this practice and a purpose was added. The criteria for watering ramps were added. There is more emphasis on water storage tanks.

Water Well (Code 642)—The agency changed the criteria to clarify that domestic use and irrigation wells must follow consensus standards, grouting, and sealing with a water tight seal required in annulus of the casing, clarified suitable filter pack materials, removed numerical limit on intake velocity through screens, added statement to emphasize all wells must be developed, and added that well performance testing must be conducted after completion.

Signed this 9th day of April, 2014, in Washington, DC.
Jason A. Weller,
Chief, Natural Resources Conservation Service.

[FR Doc. 2014-08936 Filed 4-18-14; 8:45 am]

BILLING CODE 3410-16-P